DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR part 107, subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before (30 days after publication).

ADDRESSES: Records Center, Research and Special Programs, Administration, U.S. Department of Transportation, Washington, DC 20590.

Comments should refer to the application number and be submitted in triplicate. If confirmation of receipt of comments is desired, include a self-addressed stamped postcard showing the exemption application number.

FOR FURTHER INFORMATION CONTACT: Copies of the applications (See Docket Number) are available for inspection at the New Docket Management Facility, PL-401, at the U.S. Department of Transportation, Nassif Building, 400 7th Street, SW., Washington, DC 20590 or at http://dms.dot.go.

This notice of receipt of applications for new exemptions is published in accordance with part 107 of the Federal hazardous materials transportation law (49 U.S.C. 5117(b); 49 CFR 1.53(b)).

Issued in Washington, DC, on October 20, 2003.
R. Ryan Posten,
Exemptions Program Officer, Office of Hazardous Materials Exemptions and Approvals.

New Exemptions
Application No. | Docket No. | Applicant | Regulation(s) affected | Nature of exemption thereof
13297-N |  | WMG Inc., Peekskill, NY | 49 CFR 173.403, 173.427(a), (b) & (c), 173.465(c) & (d) | To authorize the manufacture, marking, sale and use of a specially designed device containing Class 7 radioactive materials. (Mode 1)
13301-N |  | United Technologies Corporation, West Palm Beach, FL | 49 CFR 172 Subparts C, D, E and F | To authorize the transportation in commerce of certain hazardous materials for a distance of approximately 400 feet without proper hazard communication. (Mode 1)
13303-N |  | Koch Materials Company, Wichita, KS | 49 CFR 174.67(c)(2) and (i) | To authorize an alternative monitoring system for rail cars throughout the steam-heating operation when no product is being transferred. (Mode 2)
13304-N |  | Matheson Tri Gas, East Rutherford, NJ | 49 CFR 173.304, 173.40 | To authorize the transportation in commerce of hydrogen sulfide in DOT specification cylinders with a service pressure of 480 PSIG. (Modes 1, 3)
13305-N |  | Matheson Tri Gas, East Rutherford, NJ | 49 CFR 171.14 | To authorize the transportation in commerce of DOT 5A drums containing a residual amount of certain hazardous materials for disposal. (Mode 1)
13306-N |  | Ecolab Inc., St. Paul, MN | 49 CFR 172.312(a), 173.22a, 173.24a(a)(1) | To authorize the transportation in commerce of a combination packaging having inner receptacles with closures on the side, i.e., not oriented in the upward direction for use in transporting Organic peroxide, Division 5.2. (Modes 1, 2, 3)
13307-N |  | United Phosphorous, Inc., Trenton, NJ | 49 CFR 172.504 | To authorize the transportation in commerce of an aluminum phosphide based pesticide which meets the definition of a Division 4.3 material to be shipped as aluminum phosphide pesticide, a Division 6.1 material. (Mode 1)
13308-N |  | Florida Air Transport, Pembroke Park, FL | 49 CFR 172.101 Col. 9b, 172.204(c)(3), 173.27(b)(2)(3), 175.30(a)(1) | To authorize the transportation in commerce of Class 1 explosives which are forbidden or exceed quantities presently authorized. (Mode 4)
13309-N |  | OPW Engineered Systems, Lebanon, OH | 49 CFR 174.67(i) & (j) | To authorize tank cars containing hazardous materials to remain standing with connections attached provided a minimal level of monitoring is maintained and a specially designed hose capable of preventing uncontrolled release is used. (Mode 2)
13311-N |  | HazMat Services, Inc., Anaheim, CA | 49 CFR 173.12 | To authorize the transportation in commerce of laboratory reagent chemicals packaged in lab packs to facilitate relocation of laboratory facilities. (Mode 1)
13312-N |  | Air Products & Chemicals, Inc., Allentown, PA | 49 CFR 173.301(f)(3), 180.205(c)(4) | To authorize the transportation in commerce of DOT-3, 3A, and 3AA cylinders in chlorine service with a pressure relief device set to discharge at 75% of the test pressure. (Modes 1, 3)
13314-N |  | Sunoco Inc., Philadelphia, PA | 49 CFR 177.834(h) | To authorize the discharge of Division 6.1 liquids from DOT 51 portable tanks without removing the tanks from the vehicle on which it is transported. (Mode 1)

[FR Doc. 03-26869 Filed 10-23-03; 8:45 am]

BILLING CODE 4910-60-M